DEPARTMENT OF EDUCATION

Announcement of Requirements and Registration for the Reach Higher Career App Challenge

AGENCY: Office of Career, Technical, and Adult Education, Department of Education.

ACTION: Notice; public challenge.

SUMMARY: The U.S. Department of Education (the Department) is announcing the Reach Higher Career App Challenge (RHCAC or Challenge), a prize competition funded by the Carl D. Perkins Career and Technical Education Act of 2006 (Perkins IV or Act). RHCAC calls upon potential entrants, who may include eligible educators, mobile application (app) developers, and other interested individuals to submit information concerning concepts for mobile apps, which may include a prototype, to improve access to information about career and technical education (CTE), help students, including students with disabilities and English Learners, navigate education and career paths, and increase the capacity of career counselors to serve students. The Challenge seeks solutions that: (1) Are focused on middle and high school students, (2) include integrated tools to assess user skills and interests, and (3) offer users accessible information on occupations, education options, credentials, and career-seeking skills through an individualized user experience.

DATES: We must receive your Challenge submission on or before December 7, 2015.

The timeframes for judging the submissions and selecting the finalists will be determined by the Department.

The Department will conduct at least one online information session during the open submission phase of the challenge. The date of the session will be determined and announced by the Department, posted on the Luminary Lightbox™ platform at www.reachhigherchallenge.com (Challenge Web page), and sent to entrants by email. The dates for finalist activities including the Virtual Accelerator phase, finalist mentorship, Innovator's Boot Camp, and Demonstration Day (all of these activities are described elsewhere in this notice) will be determined and announced by the Department.

The date for the final judging will be determined and announced by the Department following Demonstration Day.

The winner(s) will be announced on a date determined and announced by the Department.

ADDRESSES: Submit entries for the prize at www.reachhigherchallenge.com/.

FOR FURTHER INFORMATION CONTACT: Albert Palacios, U.S. Department of Education, 550 12th Street SW., Room 11086, Washington, DC 20202 or by email: albert.palacios@ed.gov. If you use a telecommunications device for the deaf (TDD) or a text telephone (TTY), call the FRS, toll free, at 1-800-877-8339.

SUPPLEMENTARY INFORMATION:

I. Administration of the Challenge Competition

The RHCAC is being conducted by the U.S. Department of Education. Luminary Labs, L.L.C. (Luminary Labs), has been contracted by the Department to assist and support the Department in organizing and managing this competition. Activities conducted by Luminary Labs may also include providing technical assistance to potential entrants, entrants, and finalists.

II. Subject of Challenge Competition

With a constantly evolving career landscape, it is increasingly challenging for students to identify, assess, and act upon their options as they plan for careers and postsecondary education. While the current career guidance and counseling infrastructure plays a critical role in assisting students with postsecondary education and career selection decisions, nationwide, one in five high schools lacks a school counselor.¹ Furthermore, in 2013, the national average student-to-school-counselor ratio for K-12 counselors was 482:1 with peaks of 880:1 in Arizona and 826:1 in California.² As a result, students receive limited time with their counselor annually, as they prepare to make important postsecondary education and career decisions.

¹ “Data Snapshot: Teacher Equity.” U.S. Department of Education Office for Civil Rights. www2.ed.gov/about/offices/list/ocr/docs/crdc-teacher-equity-snapshot.pdf, Accessed September 11, 2015.

² “Student-to-School-Counselor Ratio 2012-2013,” American Counseling Association. 2014. www.schoolcounselor.org/asca/media/asca/home/Ratios12-13.pdf, Accessed September 11, 2015.

The Challenge invites potential entrants, who may include eligible educators, mobile app developers, and other interested individuals to submit concepts for mobile apps which may include a prototype to improve access to CTE information that would help students, including students with disabilities and English Learners, navigate education and career pathways, and increase the capacity of career counselors to assist students in making decisions about their education and career options. The Challenge intends that mobile app concepts will be developed into prototypes during the Virtual Accelerator phase. The Challenge seeks mobile app solutions that include integrated tools to assess user skills and interests, while also offering users accessible information on occupations, education options, credentials, and career-seeking skills through an individualized user experience.

The Challenge will be conducted in four phases:

(1) Challenge launch and the open submission phase;

(2) Judging of the submissions and selection of finalists;

(3) Virtual Accelerator phase (inclusive of finalist mentorship, Innovator's Boot Camp, and Demonstration Day); and

(4) Final judging and selection of winner(s). Up to five finalists will be selected from the pool of submissions received during the open submission phase. From the total prize pool of $225,000, each of the finalists will be awarded $25,000 for their submission based on a review by the judging panel using the criteria in paragraph (a) in the Selection Criteria section of this notice. Finalists will be encouraged to use their winnings to improve upon their submissions, and are required to participate in the Virtual Accelerator phase, and to attend the Innovator's Boot Camp and Demonstration Day. After the Virtual Accelerator phase, Demonstration Day, and final judging using the criteria in paragraph (b) in the Selection Criteria section of this notice, the winner(s) will be selected by the Department and receive the remainder of the prize money.

Virtual Accelerator Phase Description

The Virtual Accelerator phase begins on the date finalists are announced and concludes on Demonstration Day,³ which is the day when finalists present their submissions to the judging panel. During this phase, the finalists will revise and improve upon their submissions in preparation for Demonstration Day. On Demonstration Day, the finalists will be required to present their concept and demonstrate a final prototype.

³ The date of the announcement of the finalists will be determined by the Department.

General Elements of the Virtual Accelerator phase include the following—

(1) Mentorship: Finalists will have access to subject matter experts (SMEs) who will act throughout the Virtual Accelerator phase as mentors, helping the finalists to revise and improve their submissions.

(2) Innovator's Boot Camp: ⁴ Finalists will be required to participate in the Innovator's Boot Camp, which will either be a live event in the greater New York City metropolitan area or a virtual event. Finalists will receive guidance through teaching modules, which may include hands-on activities, with SMEs and Luminary Labs staff. While the agenda has yet to be finalized, major themes will likely include user testing and interface development along with instructions on how to best revise and improve finalists' submissions, potentially including various design and innovation methodologies that would improve CTE programs and improve virtual accessibility for everyone, including individuals with disabilities.

⁴ The date of the Innovator's Boot Camp will be determined by the Department.

(3) Demonstration Day Presentation Support: After the Innovator's Boot Camp and prior to Demonstration Day, all finalists will have the opportunity to practice their presentations and receive feedback from Luminary Labs on how to improve their Demonstration Day presentations.

Following Demonstration Day, a judging panel will provide recommendations to the Department on the selection of one or more winners from the pool of finalists to receive the remainder of the prize money.

Program Authority: The goals, purposes, and activities related to the Challenge are authorized by section 114(c)(1) of Perkins IV, 20 U.S.C. 2324(c)(1). Under this section, the Secretary of the U. S. Department of Education is authorized to carry out research, development, dissemination, evaluation and assessment, capacity building, and technical assistance with regard to CTE programs under Perkins IV. Following the RHCAC, submissions selected as finalists will be made available to the public to improve access to information on CTE programs and career guidance strategies that can be adapted and implemented in local areas thereby building local capacity to counsel students regarding CTE programs.

III. Eligibility

(a) Eligible entrants must be:

(1) Individuals at least 18 years of age and a citizen or permanent resident of the United States; ⁵

⁵ The 50 States of the United States, the District of Columbia, the Commonwealth of Puerto Rico, and the outlying areas of the United States Virgin Islands, Guam, American Samoa, the Commonwealth of the Northern Mariana Islands, and the Republic of Palau.

(2) Teams of individuals that:

(i) Are all at least 18 years of age;

(ii) Include at least one citizen or permanent resident of the United States; and

(iii) May also include foreign citizens who affirm at the time of submission of an entry for the Challenge that they are foreign citizens, who are not permanent residents; or

(3) An entity registered or incorporated in accordance with applicable State and local laws, and maintaining a primary place of business in the United States. The entity may include foreign citizens participating as employees of the entity.

(b) Ineligible entrants include—

(1) A foreign citizen unless participating as part of an eligible team or entity;

(2) A Federal entity;

(3) A Federal employee acting within the scope of his or her employment; and

(4) All employees of the Department, Luminary Labs, Challenge sponsors, and/or any other individual or entity associated with the development or administration of the Challenge, as well as members of such persons' immediate families (spouses, children, siblings, parents), and persons living in the same household as such persons, whether or not related.

(c) Entrants must:

(1) Register on the Challenge Web page (see Additional Terms that are Part of the Official Rules, under the General Terms and Conditions in this notice);

(2) Enter a submission on the Challenge Web page according to the rules, terms, and conditions in this notice;

(3) Comply with all requirements; and

(4) Provide affirmation upon submission of an entry for the Challenge that an entrant is eligible under subsection (a) of this section. If selected as a finalist, entrants must provide documentation to demonstrate their eligibility at that time.

(5) Agree to—

(i) Assume any and all risks and waive claims against the Federal government and its related entities, except in the case of willful misconduct, for any injury, death, damage, or loss of property, revenue, or profits, whether direct, indirect, or consequential, arising from their participation in the Challenge, whether the injury, death, damage, or loss of property, revenue, or profits, whether direct, indirect, or consequential, arises through negligence or otherwise;

(ii) Indemnify the Federal government against third party claims for damages arising from, or related to, competition activities, patents, copyrights, and trademark infringements; and

(iii) Comply with and abide by the Official Rules, Terms and Conditions in this notice, and the decisions of the Department which shall be final and binding in all respects.

(d) Entrants are not required to obtain liability insurance or demonstrate financial responsibility in order to participate in the Challenge.

IV. Prizes

The total prize pool for the Challenge is $225,000. From the $225,000 Challenge prize pool funds, up to five finalist teams will be awarded $25,000 each following the judging of the open submissions. Finalists will improve and revise upon their submissions during the Virtual Accelerator phase in preparation for Demonstration Day. After Demonstration Day, a judging panel will provide recommendations to the Department on the selection of one or more winners from the pool of finalists to receive the remainder of the prize money.

Prizes awarded under this competition will be paid by electronic funds transfer. Winners are responsible for any applicable local, State, and Federal taxes and reporting that may be required under applicable tax laws.

V. Selection Criteria

(a) To participate in the Challenge, an entrant must submit an eligible entry according to the Eligibility section of this notice. Each of the following five selection criteria may be assigned up to 20 points during the judging of open submissions in order to select finalists (for a total of up to 100 points). The following criteria will be used to select the finalists:

(1) Actionable Outcomes. The extent that the submission demonstrates seamless career choice decision-making through the integration of—

(i) An interactive tool that assesses user skills and interests;

(ii) Up-to-date occupational data;

(iii) Educational options, including CTE programs,⁶ technical skill credentials, and postsecondary certificate and degree programs; and

⁶ “Career and technical education” or “CTE” as defined in section 3(5) of Perkins IV.

(iv) Career-seeking skills which may include, e.g., resume writing skills, interviewing skills, etc.

(2) Target Audience. The extent that the submission provides—

(i) Support for educational and career path decision-making across a broad cross-section of students including students with disabilities, English Learners, and students in CTE programs; and

(ii) Support for counselor and/or teacher interactions with students, or plans for accessible features that will provide this support as the app is further developed.

(3) Scalability. The extent that the submission offers a viable plan for:

(i) The full development of features, including the integration of comprehensive employment data, effective communication for English Learners and individuals with disabilities, and virtual accessibility in a form that meets a government or industry-recognized standard for accessibility; and

(ii) A prototype to be customized to offer local educational and employment information including how local data and application programming interfaces (APIs) will be used.

(4) Market Differentiation. The extent that the submission demonstrates clear differentiation from the current market offerings.

(5) Commitment. The extent that the submission illustrates commitment and ability of the finalist to develop a prototype into a fully functional app.

(b) When judging the finalist submissions, judges will recommend to the Department the winner or winners from the pool of the finalists. From the pool of finalists, the winner(s) will be selected based on the five criteria in paragraph (a) of this section and the two additional criteria below. Each of the seven criteria may be assigned up to 20 points during the judging of the finalist submissions (for a total of up to 140 points). These two additional criteria are:

(1) Demonstration of the finalist's ability to effectively revise and improve their concept over the course of the Virtual Accelerator phase; and

(2) Perceived ability of the finalist and their prototype to materially transform career and education decision-making for students.

VI. Submission Information

1. To participate in the Challenge, an entrant—

(a) Must register on the Challenge Web page.

(b) Must enter the required information on the Challenge Web page submission form—

(1) Contact Information.

(2) Submission Name and Information.

(3) Actionable Outcomes. [500 word limit] ⁷ The entrant must provide a description of how its submission meets each component in paragraph (a)(1), Actionable Outcomes, under the Selection Criteria in this notice.

⁷ The Challenge Web page will be programmed to limit the number of words to the word limit indicated.

(4) Target Audience. [500 word limit] The entrant must provide a description of how its submission meets each component in section (a)(2), Target Audience, under the Selection Criteria in this notice.

(5) Scalability. [500 word limit] The entrant must provide a description of how their submission meets each component in paragraph (a)(3), Scalability, under the Selection Criteria in this notice.

(6) Market Differentiation. [500 word limit] The entrant must provide a description of how its submission meets the component in paragraph (a)(4), Market Differentiation, under the Selection Criteria in this notice.

(7) Commitment. [500 words limit] The entrant must provide a description of how their submission meets each component in paragraph (a)(5), Commitment, under the Selection Criteria section in this notice.

(8) Design Documents. On the submission form of the Challenge Web page, entrants must upload an asset (e.g., video, image, visualization) that illustrates the major design features of the proposed prototype app. (Accepted upload file formats include: .ppt, .pdf, .mp4, .mov, .jpg, .png; files must not exceed 20 megabytes.)

(9) Third Party Works. The entrant must indicate whether the submission includes any third party works. If so, the entrant must describe these works and affirm that appropriate documentation for all licenses and releases can be supplied upon request of the Department and/or Luminary Labs.

(10) Submission Checklist. The entrant must complete each of the following on the Challenge Web page when submitting their entry:

(i) The entrant attests that if selected as a finalist, their submitted concept could be developed into at least a fully functioning prototype by the conclusion of the Virtual Accelerator phase.

(ii) The entrant agrees to participate in the required Innovator's Boot Camp and present their submission on Demonstration Day if selected as a finalist.

(iii) The entrant acknowledges having read, understood and agreed to the Rules, Terms and Conditions.

(iv) The entrant confirms that the eligibility requirements are met.

(v) The entrant confirms that the submission complies with all applicable privacy laws.

(vi) The entrant confirms that the entrant did not receive assistance from subject matter experts or judges associated with the Challenge when preparing their submission.

(c) May provide the following information on the Challenge Web page submission form—

(1) Demonstration (Upload). On the submission form of the Challenge Web page, entrants may upload an asset (e.g., video, image, visualization) that illustrates a demonstration of the prototype. Entrants should not upload files that repeat the information they provided in paragraphs (b)(3) through (b)(9) of this section above. (Accepted file formats include: .ppt, .pdf, .mp4, .mov, .jpg, .png; files must not exceed 20 megabytes.)

(2) Demonstration (Link). On the submission form of the Challenge Web page, entrants may provide a link to an asset (e.g., video, image, visualization, working prototype) that illustrates a demonstration of the prototype. Entrants should not provide links to files that repeat the information they provided in paragraphs (b)(3) through (b)(9) of this section. (Videos may be posted to video-sharing sites like YouTube or Vimeo.)

(3) GitHub Link. On the submission form of the Challenge Web page, entrants may provide a link to the GitHub repository for the entrant's prototype.

2. Content and Form of Application Submission: To submit an entry to the Challenge, an entrant must complete the submission form on the Challenge Web page.

3. Submission Dates and Times:

To submit an entry to the Challenge, an entrant must go to the Challenge Web page and complete all required fields of the Challenge submission form before the close of the open submission phase, which is currently scheduled for December 7, 2015 at 11:59:59 p.m., Washington DC time. Each entrant must complete all of the required fields in the Challenge submission form in accordance with the Official Rules, Terms and Conditions in this notice.

All entrants are required to provide consent to the Official Rules, Terms and Conditions in this notice upon submitting an entry. Submissions must be received during the open submissions phase of the Challenge to be eligible. The open submissions phase officially begins October 7, 2015 with this announcement of the Challenge and continues to December 7, 2015 at 11:59:59 p.m., Washington DC time. Luminary Labs is the official timekeeper for the Challenge. Once submitted, a submission may not be altered during the open submissions phase. The Department reserves the right to disqualify any submission that the Department deems inappropriate.

During the Virtual Accelerator phase, the finalists will be required to give their Demonstration Day presentation and demonstrate a final prototype.

Entrants may enter individually or as part of a team, and teams are strongly encouraged. Each team member must be clearly identified on the team's submission form for the team to be eligible. Teams must designate a primary contact to serve as the team lead (Team Lead) and manage the distribution of any awarded prizes. In the event a dispute regarding the identity of the entrant who actually submitted the entry cannot be resolved by the Department, the affected entry will be deemed ineligible.

The open submissions phase closes at 11:59:59 p.m., Washington DC time December 7, 2015. The Department encourages entrants to submit at least one hour before the deadline to ensure the completed submission is received. If an entrant submits an entry after the deadline date because a technical problem with the Challenge Web page system, the entrant must immediately contact the person listed under FOR FURTHER INFORMATION CONTACT in this notice, and provide an explanation of the technical problem experienced on the Challenge Web page system. The Department will accept the entrant's application if the Department can confirm that a technical problem occurred with the Challenge Web page system and that the technical problem affected the entrant's ability to submit an application by 11:59:59 p.m., Washington DC time, on the entry deadline date. The Department will contact the entrant after a determination is made on whether the entry will be accepted.

Note: These extensions apply only to the unavailability of, or technical problems with, the Challenge Web page system. The Department will not grant an entrant an extension if the entrant failed to submit an entry in the system by the application deadline date and time, or if the technical problem experienced is unrelated to the Challenge Web page system.

Individuals with disabilities who need an accommodation or auxiliary aid in connection with the submission process should contact the person listed under FOR FURTHER INFORMATION CONTACT in this notice. If the Department provides an accommodation or auxiliary aid to an individual with a disability in connection with the entry submission process, the entry remains subject to all other requirements and limitations in this notice.

VII. Submission Review Information

Review and Selection Process

Based on their individual expertise, judges will recommend up to five finalists to be selected by the Department from the pool of eligible entries. Once the Department has selected a group of finalists based on the recommendations of the judges consistent with the selection criteria, the finalists will then refine their submissions during the Virtual Accelerator phase and present their submissions on Demonstration Day.

Entries will be scored by the judges based on the quality of each entry according to the criteria described in paragraph (a) of the Selection Criteria section in this notice. When selecting finalists from the open submission phase, each criterion may be worth up to 20 points for a total of up to 100 points. When selecting the winner(s) from the finalists, judges will consider two additional criteria. Each of the seven criteria will be assigned up to 20 points for a total of up to 140 points available.

By participating in the Challenge, each entrant acknowledges and agrees that such recommendations of the judges based on the criteria may differ and agrees to be bound by, and not to challenge, the final decisions of the Department.

VIII. Official Rules, Terms and Conditions

General Terms and Conditions

The Department reserves the right to suspend, postpone, cease, terminate, or otherwise modify this Challenge or any entrant's participation in the Challenge, at any time at the Department's sole discretion.

All entry information submitted on the Challenge Web page and all materials, including any copy of the submission, becomes property of the Department and will not be acknowledged or returned by Luminary Labs or the Department. However, entrants retain ownership of their concepts, including any software, research, or other intellectual property (IP) that they develop in connection therewith, subject to the license granted to the Department to use submissions as set forth in the Intellectual Property of Solutions section of this notice. Proof of submission is not considered proof of delivery or receipt of such entry. Furthermore, the Department and Luminary Labs shall have no liability for any submission that is lost, intercepted, or not received by the Department and/or Luminary Labs. The Department and Luminary Labs assume no liability or responsibility for any error, omission, interruption, deletion, theft, destruction, unauthorized access to, or alteration of, submissions.

Representations and Warranties/Indemnification

By participating in the Challenge, each entrant represents, warrants, and covenants as follows:

(a) The entrants are the sole authors, creators, and owners of the submission;

(b) The entrant's submission—

(i) Is not the subject of any actual or threatened litigation or claim;

(ii) Does not, and will not, violate or infringe upon the intellectual property rights, privacy rights, publicity rights, or other legal rights of any third party;

(iii) Does not, contain any harmful computer code (sometimes referred to as “malware,” “viruses,” or “worms”); and

(c) The submission, and entrants' use of the submission, does not, and will not, violate any applicable laws or regulations of the United States.

If the submission includes the work of any third party (such as third party content or open source code), the entrant must be able to provide, upon the request of the Department and/or Luminary Labs, documentation of all appropriate licenses and releases for such third party works. If the entrant cannot provide documentation of all required licenses and releases, the Department reserves the right, in its sole discretion, to disqualify the applicable submission, or direct the entrant to secure the licenses and releases for the Department's benefit within three days of notification of the missing documentation and allow the applicable submission to remain in the Challenge. In addition, the Department reserves all rights to pursue an entrant for claims based on damages incurred by entrant's failure to obtain such licenses and releases.

Entrants will indemnify, defend, and hold harmless the Department and Luminary Labs from and against all third party claims, actions, or proceedings of any kind and from any and all damages, liabilities, costs, and expenses relating to, or arising from, entrant's submission or any breach or alleged breach of any of the representations, warranties, and covenants of entrant hereunder. The Department reserves the right to disqualify any submission that the Department, in its discretion, deems to violate these Official Rules, Terms and Conditions in this notice.

Submission License

Each entrant retains title to, and full ownership of, its submission. The entrant expressly reserves all intellectual property rights not expressly granted under this agreement. By participating in the Challenge, each entrant hereby irrevocably grants a license to the Department and Luminary Labs to store and access submissions in perpetuity that may be reproduced or distributed in the future. Please refer to the Intellectual Property of Submissions section of this notice for further information regarding rights to submissions.

Publicity Release

By participating in the Challenge, each entrant hereby irrevocably grants to the Department and Luminary Labs the right to use such entrant's name, likeness, image, and biographical information in any and all media for advertising and promotional purposes relating to the Challenge in perpetuity and otherwise as stated in the Submission License section of this notice.

Disqualification

The Department reserves the right in its sole discretion to disqualify any entrant who is found to be tampering with the entry process or the operation of the Challenge, Challenge Web page, or other Challenge-related Web pages; to be acting in violation of these Official Rules, Terms and Conditions; to be acting in an unsportsmanlike or disruptive manner, or with the intent to disrupt or undermine the legitimate operation of the Challenge; or to annoy, abuse, threaten, or harass any other person; and, the Department reserves the right to seek damages and other remedies from any such person to the fullest extent permitted by law.

Links to Third-Party Web Pages

The Challenge Web page may contain links to third-party Web pages that are not owned or controlled by Luminary Labs or the Department. Luminary Labs and the Department do not endorse or assume any responsibility for any such third party sites. If an entrant accesses a third-party Web page from the Challenge Web page, the entrant does so at the entrant's own risk and expressly relieves Luminary Labs and/or the Department from any and all liability arising from use of any third-party Web page content.

Disclaimer

The Challenge Web page contains information and resources from public and private organizations that may be useful to the reader. Inclusion of this information does not constitute an endorsement by the Department or Luminary Labs of any products or services offered or views expressed. Blog articles provide insights on the activities of schools, programs, grantees, and other education stakeholders to promote continuing discussion of educational innovation and reform. Blog articles do not endorse any educational product, service, curriculum, or pedagogy.

The Challenge Web page also contains hyperlinks and URLs created and maintained by outside organizations, which are provided for the reader's convenience. The Department and Luminary Labs are not responsible for the accuracy of the information contained therein.

Notice to Finalists/Winner(s)

Attempts to notify finalists and winner(s) will be made using the email address associated with the finalist's Luminary Lightbox™ account. The Department and Luminary Labs are not responsible for email or other communication problems of any kind.

If, despite reasonable efforts, an entrant does not respond within three days of the first notification attempt regarding selection as a finalist (or a shorter time as exigencies may require) or if the notification is returned as undeliverable to such entrant, that entrant may forfeit the entrant's finalist status and associated prizes, and an alternate finalist may be selected.

If any potential prize winner is found to be ineligible, has not complied with these Official Rules, Terms and Conditions, or declines the applicable prize for any reason prior to award, such potential prize winner will be disqualified. An alternate winner may be selected, or the applicable prize may go unawarded.

Attendance

To maintain eligibility, finalists are required to participate in Challenge activities organized by the Department and Luminary Labs, which include the Virtual Accelerator phase, Webinars, Innovator's Boot Camp, and Demonstration Day. If a finalist is unable to participate in any mandatory activities, the finalist will not be eligible to win the Challenge. Finalists and winner(s) are required to attend these events at their own expense.

Intellectual Property (IP) of Submissions

Entrants retain ownership of their submission, including any software, research or other IP that they develop in connection therewith, subject to the license granted to the Department to use submissions as set forth herein.

Entrants retain all rights to the submission and any invention or work, including any software, submitted as part of the submission, subject to the following—

If the submission wins, the Department retains a nonexclusive, nontransferable, irrevocable, paid-up world-wide license to any such invention or work of the submission throughout the world, in perpetuity, to reproduce, publish or otherwise use the work for Federal purposes and authorize others to do so. Please refer to Submission License section of this notice for further information regarding rights to submissions.

Dates/Deadlines

The Department reserves the right to modify any dates or deadlines set forth in these Official Rules, Terms and Conditions or otherwise governing the Challenge.

Challenge Termination

The Department reserves the right to suspend, postpone, cease, terminate or otherwise modify this Challenge, or any entrant's participation in the Challenge, at any time at the Department's discretion.

General Liability Release

By participating in the Challenge, each entrant hereby agrees that—

(a) The Department and Luminary Labs shall not be responsible or liable for any losses, damages, or injuries of any kind (including death) resulting from participation in the Challenge or any Challenge-related activity, or from entrants' acceptance, receipt, possession, use, or misuse of any prize; and

(b) The entrant will indemnify, defend, and hold harmless the Department and Luminary Labs from and against all third party claims, actions, or proceedings of any kind and from any and all damages, liabilities, costs, and expenses relating to, or arising from, the entrant's participation in the Challenge.

Without limiting the generality of the foregoing, the Department and Luminary Labs are not responsible for incomplete, illegible, misdirected, misprinted, late, lost, postage-due, damaged, or stolen entries or prize notifications; or for lost, interrupted, inaccessible, or unavailable networks, servers, satellites, Internet Service Providers, Web pages, or other connections; or for miscommunications, failed, jumbled, scrambled, delayed, or misdirected computer, telephone, cable transmissions or other communications; or for any technical malfunctions, failures, difficulties, or other errors of any kind or nature; or for the incorrect or inaccurate capture of information, or the failure to capture any information.

These Official Rules, Terms and Conditions cannot be modified except by the Department in its sole and absolute discretion. The invalidity or unenforceability of any provision of these Official Rules, Terms and Conditions shall not affect the validity or enforceability of any other provision. In the event that any provision is determined to be invalid or otherwise unenforceable or illegal, these Official Rules, Terms and Conditions shall otherwise remain in effect and shall be construed in accordance with their terms as if the invalid or illegal provision were not contained herein.

Exercise

The failure of the Department to exercise or enforce any right or provision of these Official Rules, Terms and Conditions shall not constitute a waiver of such right or provision.

Governing Law

All issues and questions concerning the construction, validity, interpretation, and enforceability of these Official Rules, Terms and Conditions shall be governed by and construed in accordance with U.S. Federal law as applied in the Federal courts of the District of Columbia if a complaint is filed by any party against the Department, and the laws of the State of New York as applied in the New York state courts in New York City if a complaint is filed by any party against Luminary Labs.

Privacy Policy

By participating in the Challenge, each entrant hereby agrees that occasionally, the Department and Luminary Labs may also use the entrant's information to contact the entrant about Federal Challenge and innovation related activities, and acknowledges that the entrant has read and accepted the privacy policy at: www.reachhigherchallenge.com/privacy.

Additional Terms That Are Part Of The Official Rules, Terms and Conditions

Please review the Luminary Lightbox™ Terms of Service at: www.LuminaryLightbox.com/terms for additional rules that apply to participation in the Challenge and more generally to use of the Challenge Web page. Such Terms of Service are incorporated by reference into these Official Rules, Terms and Conditions. If there is a conflict between the Terms of Service and these Official Rules, Terms and Conditions, the latter terms shall control with respect to this Challenge only.

Participation in the Challenge constitutes an entrant's full and unconditional agreement to these Official Rules, Terms and Conditions. By entering, an entrant agrees that all decisions related to the Challenge that are made pursuant to these Official Rules, Terms and Conditions are final and binding, and that all such decisions are at the sole discretion of the Department and/or Luminary Labs.

Luminary Labs collects personal information from entrants to the Challenge. The information collected is subject to the privacy policy located here: www.LuminaryLightbox.com/privacy.

Winners List/Official Rules/Contact

To obtain a list of finalists and winner(s) (after the conclusion of the Challenge) or a copy of these Official Rules, Terms and Conditions, send a self-addressed envelope with the proper postage affixed to: Luminary Labs, 30 West 22nd St., Floor 6, New York, NY, 10010. Please specify “Winners List” or “Official Rules” and the name of the specific Challenge in this request.

Please contact the person listed under FOR FURTHER INFORMATION CONTACT in section IX of this notice, should you have any comments or questions about these Official Rules, Terms, and Conditions.

IX. Agency Contact

For Further Information contact: Albert Palacios, U.S. Department of Education, 550 12th Street SW., Room 11-086, Washington, DC 20202 or by email: albert.palacios@ed.gov.

If you use a TDD or a TTY, call the FRS, toll free, at 1-800-877-8339.

X. Other Information

Accessible Format: Individuals with disabilities can obtain this document and a copy of the application package in an accessible format (e.g., braille, large print, audiotape, or compact disk) on request to the program contact person listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: September 29, 2015.
Johan E. Uvin,
Deputy Assistant Secretary, Delegated the Authority of Assistant Secretary for Career, Technical, and Adult Education.

[FR Doc. 2015-25245 Filed 10-6-15; 8:45 am]

BILLING CODE 4000-01-P